DEPARTMENT OF HOMELAND SECURITY

Coast Guard

[USCG-2009-0178]

National Offshore Safety Advisory Committee; Meeting

AGENCY: Coast Guard, DHS.

ACTION: Notice of meeting.

SUMMARY: The National Offshore Safety Advisory Committee (NOSAC) will meet, in Corpus Christi, TX, to discuss various issues relating to offshore safety and security. The meeting will be open to the public.

DATES: NOSAC will meet on Thursday, April 23, 2009, from 9 a.m. to 3 p.m. This meeting may close early if all business is finished. Written material and requests to make oral presentations should reach the Coast Guard on or before April 9, 2009. Requests to have a copy of your material distributed to each member of the committee should reach the Coast Guard on or before April 9, 2009.

ADDRESSES: NOSAC will meet in the “Corpus A” room of the Omni Corpus Christi Hotel, 900 North Shoreline Blvd., Corpus Christi, Texas. Send written material and requests to make oral presentations to Commander P. W. Clark, Designated Federal Officer (DFO), Commandant (CG-5222), U.S. Coast Guard Headquarters, 2100 Second Street SW., Washington, DC 20593-0001. This notice is available on our Online docket, USCG-2009-0178, at http://www.regulations.gov.

FOR FURTHER INFORMATION CONTACT: Commander P. W. Clark, Designated Federal Officer of NOSAC, or Mr. Jim Magill, Assistant Designated Federal Officer, telephone 202-372-1414, fax 202-372-1926.

SUPPLEMENTARY INFORMATION: Notice of this meeting is given under the Federal Advisory Committee Act, 5 U.S.C. App. (Pub. L. 92-463).

Agenda of Meeting

The agenda for the April 23, 2009, committee meeting includes the following:

(1) Report on issues concerning the International Maritime Organization (IMO) and the International Organization for Standardization.

(2) Revision of 46 CFR, Subchapter V, Subpart B—Commercial Diving Operations.

(3) MARPOL Annex II Implementation and IMO Resolution A.673 for Offshore Supply Vessels (OSVs).

(4) Employment of Foreign Workers on the OCS.

(5) Evacuation of Injured Workers from Remote Drilling and Production Facilities.

(6) Transportation Worker Identification Credential (TWIC) impact on offshore facilities.

(7) Industry information on current costs and operations on OCS activities.

Procedural

The meeting is open to the public. Please note that the meeting may close early if all business is finished. At the Chair's discretion, members of the public may make oral presentations during the meeting. If you would like to make an oral presentation at the meeting, please notify the Designated Federal Officer no later than April 9, 2009. Written material for distribution at the meeting should reach the Coast Guard no later than April 9, 2009. If you would like a copy of your material distributed to each member of the committee in advance of the meeting, please submit 25 copies to the Designated Federal Officer no later than April 9, 2009.

Information on Services for Individuals With Disabilities

For information on facilities or services for individuals with disabilities or to request special assistance at the meeting, contact the DFO as soon as possible.

Dated: March 16, 2009.
J.G. Lantz,
Director of Commercial Regulations and Standards.

[FR Doc. E9-6418 Filed 3-23-09; 8:45 am]

BILLING CODE 4910-15-P